DEPARTMENT OF COMMERCE

International Trade Administration

Harvard University, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 14-031. Applicant: Harvard University, Cambridge, MA 02138. Instrument: Electron Microscope.

Manufacturer: JEOL Ltd., Japan. Intended Use: See notice at 80 FR 2914-15, January 21, 2015.

Docket Number: 14-033. Applicant: University of South Carolina School of Medicine, Columbia, SC 29208. Instrument: Electron Microscope.

Manufacturer: JEOL Ltd., Japan. Intended Use: See notice at 80 FR 2914-15, January 21, 2015.

Docket Number: 14-036. Applicant: University of Michigan, Ann Arbor, MI 48109-2200. Instrument: Electron Microscope. Manufacturer: JEOL Ltd., Japan. Intended Use: See notice at 80 FR 2914-15, January 21, 2015.

Docket Number: 14-037. Applicant: University of Arizona, Tucson, AZ 85721. Instrument: Electron Microscope. Manufacturer: FEI Company, Czech Republic. Intended Use: See notice at 80 FR 2914-15, January 21, 2015.

Docket Number: 14-038. Applicant: University of North Dakota, Grand Forks, ND 58202-8153. Instrument: Electron Microscope. Manufacturer: FEI Company, Czech Republic.

Intended Use: See notice at 80 FR 2914-15, January 21, 2015.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: April 24, 2015.
Gregory W. Campbell,
Director, Subsidies Enforcement Office, Enforcement and Compliance.

[FR Doc. 2015-10132 Filed 4-29-15; 8:45 am]

BILLING CODE 3510-DS-P